ENVIRONMENTAL PROTECTION AGENCY

40 CFR Part 70

[DC-T5-2001-01a; FRL-7107-2]

Clean Air Act Full Approval of Operating Permit Program; District of Columbia; Withdrawal of Direct Final Rule

AGENCY: Environmental Protection Agency (EPA).

ACTION: Withdrawal of direct final rule.

SUMMARY: Due to an adverse comment, EPA is withdrawing the direct final rule fully approving the operating permit program of the District of Columbia. In the direct final rule published on October 16, 2001 (66 FR 52538), EPA stated that if adverse comments were received by November 15, 2001, the rule would be withdrawn and not take effect. EPA subsequently received adverse comments. EPA will address the comments received in a subsequent final action based upon the proposed action also published on October 16, 2001 (66 FR 52561). EPA will not institute a second comment period on this action.

EFFECTIVE DATE: The direct final rule is withdrawn as of November 26, 2001.

FOR FURTHER INFORMATION CONTACT: Paresh R. Pandya, Permits and Technical Assessment Branch at (215) 814-2167 or by e-mail at pandya.perry@.epa.gov.

List of Subjects in 40 CFR Part 70

Environmental protection, Air pollution control, Intergovernmental relations, Operating permits, Reporting and recordkeeping requirements.

Dated: November 16, 2001.
Donald S. Welsh,
Regional Administrator, Region III.

Accordingly, the addition of 40 CFR part 70, Appendix A, “District of Columbia”, paragraph (b) is withdrawn as of November 26, 2001.

[FR Doc. 01-29367 Filed 11-23-01; 8:45 am]

BILLING CODE 6560-50-P